DEPARTMENT OF THE INTERIOR

Bureau of Reclamation

[RR85672000, 21XR0680A2, RX.31480001.0040000; OMB Control Number 1006-0003]

Agency Information Collection Activities; Bureau of Reclamation Use Authorization Application

AGENCY: Bureau of Reclamation, Interior.

ACTION: Notice of information collection; request for comment.

SUMMARY: In accordance with the Paperwork Reduction Act of 1995, we, the Bureau of Reclamation (Reclamation) are proposing to renew an information collection.

DATES: Interested persons are invited to submit comments on or before October 4, 2021.

ADDRESSES: Send your comments on this information collection request (ICR) by mail to Jason Kirby, Bureau of Reclamation, P.O. Box 25007, Denver, CO 80225-0007; or by email to jkirby@usbr.gov. Please reference Office of Management and Budget (OMB) Control Number 1006-0003 in the subject line of your comments.

FOR FURTHER INFORMATION CONTACT: To request additional information about this ICR, contact Jason Kirby by email at jkirby@usbr.gov, or by telephone at (303) 445-2895. Individuals who are hearing or speech impaired may call the Federal Relay Service at (800) 877-8339 for TTY assistance.

SUPPLEMENTARY INFORMATION: In accordance with the Paperwork Reduction Act of 1995 (PRA, 44 U.S.C. 3501 et seq.) and 5 CFR 1320.8(d)(1), all information collections require approval under the PRA. We may not conduct or sponsor and you are not required to respond to a collection of information unless it displays a currently valid OMB control number.

As part of our continuing effort to reduce paperwork and respondent burdens, we invite the public and other Federal agencies to comment on new, proposed, revised, and continuing collections of information. This helps us assess the impact of our information collection requirements and minimize the public's reporting burden. It also helps the public understand our information collection requirements and provide the requested data in the desired format.

We are especially interested in public comment addressing the following:

(1) Whether or not the collection of information is necessary for the proper performance of the functions of the agency, including whether or not the information will have practical utility;

(2) The accuracy of our estimate of the burden for this collection of information, including the validity of the methodology and assumptions used;

(3) Ways to enhance the quality, utility, and clarity of the information to be collected; and

(4) How might the agency minimize the burden of the collection of information on those who are to respond, including through the use of appropriate automated, electronic, mechanical, or other technological collection techniques or other forms of information technology, e.g., permitting electronic submission of response.

Comments that you submit in response to this notice are a matter of public record. We will include or summarize each comment in our request to OMB to approve this ICR. Before including your address, phone number, email address, or other personal identifying information in your comment, you should be aware that your entire comment—including your personal identifying information—may be made publicly available at any time. While you can ask us in your comment to withhold your personal identifying information from public review, we cannot guarantee that we will be able to do so.

Abstract: Reclamation is responsible for approximately 6.5 million acres of land which directly support Reclamation's Federal water projects in the 17 Western States. Under Title 43 CFR part 429, individuals or entities wanting to use Reclamation's lands, facilities, or waterbodies must apply using Form 7-2540. Examples of such uses are:

—Agricultural uses such as grazing and farming;

—commercial or organized recreation and sporting activities;

—other commercial activities such as “guiding and outfitting” and “filming and photography;” and,

—resource exploration and extraction, including sand and gravel removal and timber harvesting.

We review applications to determine whether granting individual use authorizations are compatible with Reclamation's present or future uses of the lands, facilities, or waterbodies. When we find a proposed use compatible, we advise the applicant of the estimated administrative costs and estimated application processing time. In addition to the administrative costs, we require the applicant to pay a use fee based on a valuation or by competitive bidding. If the application is for construction of a bridge, building, or other significant construction project, Reclamation may require that all plans and specifications be signed and sealed by a licensed professional engineer.

Title of Collection: Bureau of Reclamation Use Authorization Application.

OMB Control Number: 1006-0003.

Form Number: Form 7-2540.

Type of Review: Extension of a currently approved collection.

Respondents/Affected Public: Individuals, corporations, companies, and State and local entities who want to use Reclamation lands, facilities, or waterbodies.

Total Estimated Number of Annual Respondents: 225.

Total Estimated Number of Annual Responses: 225.

Estimated Completion Time per Response: 2 hours.

Total Estimated Number of Annual Burden Hours: 450 hours.

Respondent's Obligation: Required to obtain or retain a benefit.

Frequency of Collection: Each time a use authorization is requested.

Total Estimated Annual Nonhour Burden Cost: $78,750.

An agency may not conduct or sponsor and a person is not required to respond to a collection of information unless it displays a currently valid OMB control number.

The authority for this action is the Paperwork Reduction Act of 1995 (44 U.S.C. 3501 et seq).

Karen Knight,
Director, Dam Safety and Infrastructure.

[FR Doc. 2021-16583 Filed 8-3-21; 8:45 am]

BILLING CODE 4332-90-P